DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Aleutian Islands Pollock Fishery Requirements.

OMB Control Number: 0648-0513.

Form Number(s): None.

Type of Request: Regular submission.

Burden Hours: 134.

Number of Respondents: 6.

Average Hours Per Response: Annual fishery letter to NMFS re participants, 16 hours; copy of NMFS approval to participants, 5 minutes; and appeals, 20 hours.

Needs and Uses: The Consolidated Appropriations Act of 2004 requires the Aleutian Islands pollock fishery to be allocated to the Aleut Corporation for economic development of Adak, Alaska. The statute requires the Aleut Corporation's approval for participants and limits participation to American Fisheries Act qualified entities and vessels less than or equal to 60 ft overall length with certain endorsements. The qualified entities/vessels are nominated by the corporation and subsequently approved by the National Marine Fisheries Service (NMFS) to participate in the fishery.

Affected Public: Business or other for-profit organizations; individuals and households.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 6, 2008.
Gwellnar Banks,
Management Analyst, Office of the Chief Information Officer.

[FR Doc. E8-26874 Filed 11-12-08; 8:45 am]

BILLING CODE 3510-22-P